DEPARTMENT OF STATE

[Public Notice 4521]

Determination Pursuant to Section 344(b) of the Trade Act of 2002

Pursuant to section 344(b) of the Trade Act of 2002, 19 U.S.C. 1583 note (Pub. L. 107-210), and Delegation of Authority No. 245 (Apr. 23, 2001), I hereby determine that the provision of the Trade Act authorizing the U.S. Customs Service to search foreign mail transiting the United States without a warrant is not consistent with international law and the international obligations of the United States.

This determination is to be transmitted to Congress and published in the Federal Register.

Dated: October 17, 2003.
Richard L. Armitage,
Deputy Secretary of State, Department of State.

[FR Doc. 03-27272 Filed 10-28-03; 8:45 am]

BILLING CODE 4710-08-P